POSTAL REGULATORY COMMISSION

[Docket No. PI2008-3; Order No. 76]

Universal Postal Service Obligation

AGENCY: Postal Regulatory Commission.

ACTION: Notice of public workshop and field hearings.

DATES: June 12, 2008: public workshop, Washington, DC (10 a.m.). See SUPPLEMENTARY INFORMATION for field hearing dates.

FOR FURTHER INFORMATION CONTACT: Ann Fisher, chief of staff, 202-789-6803 or ann.fisher@prc.gov.

SUPPLEMENTARY INFORMATION:

Regulatory History

73 FR 23507 (April 30, 2008).

I. Background

In Order No. 71, the Postal Regulatory Commission (Commission) established a docket to address its responsibility, under section 702 of the Postal Accountability and Enforcement Act (PAEA), Public Law 109-435, to submit a report to the President and the Congress on “universal postal service and the postal monopoly in the United States * * * including the monopoly on the delivery of mail and on access to mailboxes.” It invited written comments on these topics, including specific questions presented in an accompanying discussion memorandum, and noted that field hearings and a public workshop would be held to obtain additional input. This order provides some additional details concerning the field hearings and public workshop.

II. Public Workshop

The Commission will sponsor a workshop on Thursday, June 12, 2008, from 10 a.m. to 12 p.m. The workshop will be held in the Commission's hearing room, located at 901 New York Ave., NW., Suite 200, Washington, DC. The moderator will be Commission Chairman Dan G. Blair. The workshop is open to the public. The proceedings will be transcribed, and a copy of the transcript will be posted on the Commission's Web site.

III. Field Hearings

A. Information Applicable to All Field Hearings

Format and record. All comments and testimony received, including responses to questions from Commissioners, will be transcribed, posted on the Commission's Web site, and used to inform the Commission's conclusions. The public is invited to attend the hearings.

Special accommodations. It is the Commission's understanding that each hearing room is handicapped accessible. Any member of the public who believes his or her attendance may require special accommodations is requested to contact Judy Grady, assistant director of Strategic Planning and Performance Management, 202-789-6898, or judith.grady@prc.gov as soon as possible.

B. Flagstaff, Arizona Hearing

The Flagstaff hearing will be held on Wednesday, May 21, 2008, at City Hall, 211 West Aspen Ave. The hearing is scheduled to begin at 2 p.m. and conclude at 4 p.m. Details concerning the witness list will be posted on the Commission's Web site.

C. St. Paul, Minnesota Hearing

The St. Paul field hearing will be held on Thursday, June 5, 2008, in City Council Chambers on the third floor of the City Hall/Court House Building, 15 Kellogg Blvd. The hearing is scheduled to begin at 10 a.m. and conclude at 12 p.m. Details concerning the witness list will be posted on the Commission's Web site.

D. Portsmouth, New Hampshire Hearing

The Portsmouth field hearing will be held on Thursday, June 19, 2008, at City Hall, 1 Junkins Ave. The hearing is scheduled to begin at 2 p.m. and conclude at 4 p.m. Details concerning the witness list will be posted on the Commission's Web site.

IV. Ordering Paragraphs

It is Ordered:

1. The Commission will hold the scheduled field hearings and public workshop referred to in the body of this order.

2. The Secretary shall arrange for publication of this notice in the Federal Register.

By the Commission.
Dated: May 16, 2008.
Garry J. Sikora,
Acting Secretary.

[FR Doc. E8-11453 Filed 5-21-08; 8:45 am]

BILLING CODE 7710-FW-P